DEPARTMENT OF EDUCATION

Performance of Accrediting Agencies Under Review by the Secretary of Education

AGENCY: U.S. Department of Education, Accreditation Group, Office of Postsecondary Education.

ACTION: Call for written third-party comments.

SUMMARY: This notice provides information to members of the public on submitting written comments for accrediting agencies currently undergoing review for purposes of recognition by the U.S. Secretary of Education.

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

SUPPLEMENTARY INFORMATION: This solicitation of third-party comments concerning the performance of accrediting agencies under review by the Secretary of Education is required by § 496(n)(1)(A) of the Higher Education Act (HEA) of 1965, as amended. These accrediting agencies will be on the agenda for the Winter 2020 National Advisory Committee on Institutional Quality and Integrity meeting. The meeting date has not been determined but will be announced in a separate Federal Register notice.

Agencies Under Review and Evaluation: Below is a list of agencies currently undergoing review and evaluation by the Department's Office of Postsecondary Education Accreditation Group, including each agency's current and requested scopes of recognition:

Application for Initial Recognition

1. National Nurse Practitioner Residency and Fellowship Training Consortium. Requested Scope of Recognition: The accreditation of postgraduate residency and fellowship nurse practitioner (NP) postgraduate training programs in the United States. This recognition also extends to the agency's Appeals Panel.

Applications for Renewal of Recognition

1. New York State Board of Regents, State Education Department, Office of the Professions (Public Postsecondary Vocational Education, Practical Nursing).

2. Pennsylvania State Board of Vocational Education, Bureau of Career and Technical Education.

3. Kansas State Board of Nursing.

4. Maryland Board of Nursing.

Application for an Expansion of Scope

1. The Association for Biblical Higher Education, Commission on Accreditation. Scope of Recognition: The accreditation and preaccreditation (“Candidate for Accreditation”), at the undergraduate level, of institutions of biblical higher education in the United States offering both campus-based and distance education instructional programs. Requested Scope of Recognition: The accreditation and preaccreditation (“Candidate Status”) of institutions of biblical higher education in the United States offering undergraduate certificates, associate degrees, baccalaureate degrees, graduate certificates, and master's degrees, including the accreditation of educational programs offered via distance education.

Application for Granting of Academic (Masters and Doctoral) Degrees by Federal Agencies and Institutions

1. National Intelligence University: Undergoing Substantive Change (Reorganization/Command Change).

Compliance Report

1. The Oklahoma Board of Career and Technology Education (OBCTE) compliance report includes findings of noncompliance with the criteria in 34 Code of Federal Regulations (CFR) § 603 identified in the May 9, 2018 letter from the senior Department official following the February 7, 2018 NACIQI meeting available at: https://opeweb.ed.gov/aslweb/finalstaffreports.cfm.

Submission of Written Comments Regarding a Specific Accrediting Agency or State Approval Agency Under Review

Written comments about the recognition of a specific accrediting or State agency must be received by October 3, 2019, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency that has submitted a compliance report scheduled for review by the Department must relate to the criteria for recognition cited in the senior Department official's letter that requested the report, or in the Secretary's appeal decision, if any. Comments about an agency that has submitted a petition for renewal of recognition must relate to the agency's compliance with the Criteria for the Recognition of Accrediting Agencies, or the Criteria and Procedures for Recognition of State Agencies for the Approval of Vocational and Nurse Education as appropriate, which are available at http://www.ed.gov/admins/finaid/accred/index.html.

Only written material submitted by the deadline to the email address listed in this notice, and in accordance with these instructions, become part of the official record concerning agencies scheduled for review and are considered by the Department and NACIQI in their deliberations.

A later Federal Register notice will describe how to register to provide oral comments at the Winter 2020 meeting regarding the recognition of a specific accrediting agency or State approval agency.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Robert L. King,
Assistant Secretary for Postsecondary Education.

[FR Doc. 2019-19025 Filed 9-3-19; 8:45 am]

BILLING CODE P